DEPARTMENT OF COMMERCE

National Institute of Standards and Technology

Advisory Committee on Earthquake Hazards Reduction Meeting

AGENCY: National Institute of Standards and Technology, Department of Commerce.

ACTION: Notice of open meeting.

SUMMARY: The Advisory Committee on Earthquake Hazards Reduction (ACEHR or Committee) will hold an open virtual meeting via web conference on Wednesday, June 12, 2024, from 1:30 p.m. to 4:30 p.m. and Thursday, June 13, 2024, from 1:30 p.m. to 4:30 p.m. Eastern Time. The primary purpose of this meeting is for the Committee to review the activities of the National Earthquake Hazards Reduction Program (NEHRP). The agenda may change to accommodate Committee business. The final agenda will be posted on the NEHRP website at https://nehrp.gov/committees/meetings.htm.

DATES: The ACEHR will meet on Wednesday, June 12, 2024, from 1:30 p.m. to 4:30 p.m. and Thursday, June 13, 2024, from 1:30 p.m. to 4:30 p.m. Eastern Time.

ADDRESSES: The meeting will be held via web conference. For instructions on how to participate in the meeting, please see the SUPPLEMENTARY INFORMATION section of this notice.

FOR FURTHER INFORMATION CONTACT: Tina Faecke, Management and Program Analyst, NEHRP, Engineering Laboratory, NIST. Ms. Faecke's email address is tina.faecke@nist.gov and her phone number is (240) 477-9841.

SUPPLEMENTARY INFORMATION:

Authority: 42 U.S.C. 7704(a)(5) and the Federal Advisory Committee Act (FACA), as amended, 5 U.S.C. 1001 et seq. The Committee is composed of 12 members, appointed by the Director of NIST, who were selected for their established records of distinguished service in their professional community, their knowledge of issues affecting NEHRP, and to reflect the wide diversity of technical disciplines, competencies, and communities involved in earthquake hazards reduction. In addition, the Chairperson of the U.S. Geological Survey Scientific Earthquake Studies Advisory Committee serves as an ex-officio member of the Committee.

Pursuant to the FACA, as amended, 5 U.S.C. 1001 et seq., notice is hereby given that the ACEHR will meet on Wednesday, June 12, 2024, from 1:30 p.m. to 4:30 p.m. and Thursday, June 13, 2024, from 1:30 p.m. to 4:30 p.m. Eastern Time. The meeting will be open to the public and will be held via web conference. Interested members of the public will be able to participate in the meeting from remote locations. The primary purpose of this meeting is for the Committee to review the activities of NEHRP. The agenda may change to accommodate Committee business. The final agenda will be posted on the NEHRP website at https://nehrp.gov/committees/meetings.htm.

Individuals and representatives of organizations who would like to offer comments and suggestions related to the Committee's business are invited to request a place on the agenda. Approximately fifteen minutes will be reserved for public comments and speaking times will be assigned on a first-come, first-serve basis. The amount of time per speaker will be determined by the number of requests received. This meeting will be recorded. Public comments can be provided via email or by web conference attendance. Questions from the public will not be considered during this period. All those wishing to speak must submit their request by email to Tina Faecke at tina.faecke@nist.gov by 5:00 p.m. Eastern Time, June 5, 2024. Speakers who wish to expand upon their oral statements, those who had wished to speak but could not be accommodated on the agenda, and those who were unable to participate are invited to submit written statements electronically by email to tina.faecke@nist.gov.

Anyone wishing to attend this meeting via web conference must register by 5:00 p.m. Eastern Time, June 5, 2024, to attend. Please submit your full name, the organization you represent (if applicable), email address, and phone number to Tina Faecke at tina.faecke@nist.gov. After pre-registering, participants will be provided with instructions on how to join the web conference.

Alicia Chambers,
NIST Executive Secretariat.

[FR Doc. 2024-07431 Filed 4-8-24; 8:45 am]

BILLING CODE 3510-13-P